NATIONAL AERONAUTICS AND SPACE ADMINISTRATION

[Notice 10-093]

National Environmental Policy Act; NASA Glenn Research Center Plum Brook Station Wind Farm Project

AGENCY: National Aeronautics and Space Administration.

ACTION: Notice of Intent to prepare an Environmental Impact Statement and to conduct scoping for the NASA Glenn Research Center (GRC).

SUMMARY: NASA intends to conduct scoping and prepare an Environmental Impact Statement (EIS) for the NASA GRC Plum Brook Station Wind Farm Project located near Sandusky, Ohio, pursuant to the National Environmental Policy Act of 1969, as amended (NEPA) (42 U.S.C. 4321, et seq.), the CEQ Regulations for Implementing the Procedural Provisions of NEPA (40 CFR Parts 1500-1508), Executive Order 13423, “Strengthening Federal Environmental, Energy, and Transportation Management”, and NASA policy and procedures (14 CFR part 1216 Subpart 1216.3). The purpose of scoping is for NASA to obtain public comments on construction and operation of the wind farm.

The purpose of constructing and operating the wind farm is for NASA to increase its use of renewable energy sources on the NASA-owned land at Plum Brook Station, which will enable NASA to meet the objectives of the Energy Policy Act of 2005.

Three alternatives will be examined in this EIS: Two siting alternatives and the no-action alternative. The two siting alternatives would involve different configurations for the wind farm on approximately 2,000 acres of underutilized land at Plum Brook Station.

Environmental impacts to be considered in the EIS are those impacts associated with construction and operation for up to 30 wind turbines.

DATES: Interested parties are invited to submit comments to on this proposed action, preferably in writing, no later than 60 days from the date of publication of this notice in the Federal Register.

ADDRESSES: Written comments on the scope of this EIS should be addressed to NASA Wind Farm EIS, P.O. Box 1490, Germantown, MD 20874-1490. While hard copy comments are preferred, comments may be sent via e-mail to nasawindfarmeis@saic.com, or by toll-free fax to 877-344-0517. NASA has also scheduled a public meeting to solicit comments and concerns from the public regarding this proposed action. The meeting will be held at 6:30 p.m. on September 14, 2010, at Sandusky High School, 2130 Hayes Avenue, Sandusky, OH, 44870. NASA will give equal weight to written, e-mail, fax, and oral comments.

FOR FURTHER INFORMATION CONTACT: Questions regarding the scoping process and requests to be placed on the distribution list for this EIS should be directed to Mr. John A. Selby, NASA Glenn Research Center, by any of the means given above, or by calling toll-free at 877-303-6530.

SUPPLEMENTARY INFORMATION: GRC is pursuing this because previous studies have concluded that wind energy at Plum Brook Station had the greatest potential of generating large amounts of renewable energy.

The Proposed Action is for GRC to enter into a 20 to 25 year strategic partnership with a Wind Energy Developer for the development and operation of a wind farm at Glenn's Plum Brook Station campus. The wind farm will have a maximum estimated capacity of 70 megawatts, consisting of 20 to 30 wind turbines each rated at approximately 2.5 megawatts. This equates to approximately 20 megawatts of average total power output based on a 30% wind capacity factor.

In addition, when fully operational, this project could potentially provide GRC's Plum Brook Station and Lewis Field with a renewable electrical supply which would assist NASA in meeting Executive Order 13423 (Strengthening Federal Environmental, Energy, and Transportation Management), requiring 7.5% of all electrical energy used agencywide to come from renewable energy sources by the year 2013. This 7.5% goal equates to approximately 14 megawatts. All of NASA's agency assets currently receive 6.5 megawatts of electrical power from renewables, thus leaving a shortfall of 7.5 megawatts in meeting the 2013 target. Because Executive Order 13423 provides for a double credit if the renewable energy is produced on federal property, Glenn can apply 3.8 megawatts of the wind farm output to completely meet the total agency requirement.

NASA has identified an approximately 2,000-acre tract along the east-central portion of the 6,400-acre Plum Brook Station for initial consideration for wind farm development. This area was determined based on consideration of the GRC Master Plan, ongoing and planned activities, known wildlife areas, and consideration of a potential future aircraft runway.

Currently under consideration are alternatives to the Proposed Action that will be discussed in this EIS. They include, but are not limited to, the no-action alternative, a wind farm design featuring full build-out of 20 to 30 wind turbines, and an alternative featuring an intermediate wind farm design based on Ohio Power Siting Board setbacks and other siting constraints.

The EIS will consider the potential impacts associated with construction and operation of the Wind Farm Project. Science Applications International Corporation of Germantown, Maryland, has been contracted to support NASA's preparation of this EIS and implementation of associated scoping activities.

Written public input and comments on environmental impacts associated with the proposed Wind Farm Project are hereby solicited. Written comments, statements, and or questions regarding the alternatives or environmental impacts should identify issues or suggest topics to be included in this EIS.

Olga M. Dominguez,
Assistant Administrator for Strategic Infrastructure.

[FR Doc. 2010-21052 Filed 8-24-10; 8:45 am]

BILLING CODE P